DEPARTMENT OF TRANSPORTATION

Federal Aviation Administration

Notice of Intent To Request Renewal From the Office of Management and Budget (OMB) of Two Current Public Collections of Information

AGENCY: Federal Aviation Administration (FAA), DOT.

ACTION: Notice.

SUMMARY: In compliance with the Paperwork Reduction Act (44 U.S.C. 3501 et seq.), the FAA invites public comment on two currently approved public information collections which will be submitted to OMB for renewal.

DATES: Comments must be received on or before November 18, 2002.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collections of information in order to evaluate the necessity of the collection, the accuracy of the agency's estimate of the burden, the quality, utility, and clarity of the information to be collected, and possible ways to minimize the burden of the collection in preparation for submission to renew the clearances of the following information collections.

1. 2120-0049, Agricultural Aircraft Operator Certificate Application. Standards have been established for operation of agricultural aircraft and for the dispensing of chemicals, pesticides, and toxic substances. The information collected is used to determine the applicant's compliance with FAA regulations and eligibility for certification by the FAA. The current estimated annual reporting burden is 14,037 hours.

2. 2120-0552, Suspected Unapproved Parts Notification. The information collected is reported voluntarily by manufacturers, repair stations, aircraft owners/operators, air carriers, and the general public who wish to report suspected unapproved parts to the FAA for review. This information is used to determine if an unapproved part investigation is warranted. The current estimated annual reporting burden is 60 hours.

Issued in Washington, DC, on September 13, 2002.
Judith D. Street,
FAA Information Collection Clearance Officer, APF-100.

[FR Doc. 02-23835 Filed 9-18-02; 8:45 am]

BILLING CODE 4910-13-M